DEPARTMENT OF THE TREASURY

Alcohol and Tobacco Tax and Trade Bureau

27 CFR Part 9

[T.D. TTB-30; Re: Notice No. 28]

RIN 1513-AA79

Establishment of the High Valley Viticultural Area (2003R-361P)

AGENCY: Alcohol and Tobacco Tax and Trade Bureau, Treasury.

ACTION: Final rule; Treasury decision.

SUMMARY: This Treasury decision establishes the 14,000-acre High Valley viticultural area in Lake County, California. We designate viticultural areas to allow vintners to better describe the origin of their wines and to allow consumers to better identify wines they may purchase.

DATES: Effective Date: August 1, 2005.

FOR FURTHER INFORMATION CONTACT: Nancy Sutton, Regulations and Procedures Division, Alcohol and Tobacco Tax and Trade Bureau, 925 Lakeville St., No. 158, Petaluma, California 94952; telephone (415) 271-1254.

SUPPLEMENTARY INFORMATION:

Background on Viticultural Areas

TTB Authority

Section 105(e) of the Federal Alcohol Administration Act (the FAA Act, 27 U.S.C. 201 et seq.) requires that alcohol beverage labels provide the consumer with adequate information regarding a product's identity and prohibits the use of misleading information on such labels. The FAA Act also authorizes the Secretary of the Treasury to issue regulations to carry out its provisions. The Alcohol and Tobacco Tax and Trade Bureau (TTB) administers these regulations.

Part 4 of the TTB regulations (27 CFR part 4) allows the establishment of definitive viticultural areas and the use of their names as appellations of origin on wine labels and in wine advertisements. Part 9 of the TTB regulations (27 CFR part 9) contains the list of approved viticultural areas.

Definition

Section 4.25(e)(1)(i) of the TTB regulations (27 CFR 4.25(e)(1)(i)) defines a viticultural area for American wine as a delimited grape-growing region distinguishable by geographical features, the boundaries of which have been recognized and defined in part 9 of the regulations. These designations allow vintners and consumers to attribute a given quality, reputation, or other characteristic of a wine made from grapes grown in an area to its geographic origin. The establishment of viticultural areas allows vintners to describe more accurately the origin of their wines to consumers and helps consumers to identify wines they may purchase. Establishment of a viticultural area is neither an approval nor an endorsement by TTB of the wine produced in that area.

Requirements

Section 4.25(e)(2) of the TTB regulations outlines the procedure for proposing an American viticultural area and provides that any interested party may petition TTB to establish a grape-growing region as a viticultural area. Section 9.3(b) of the TTB regulations requires the petition to include—

• Evidence that the proposed viticultural area is locally and/or nationally known by the name specified in the petition;

• Historical or current evidence that supports setting the boundary of the proposed viticultural area as the petition specifies;

• Evidence relating to the geographical features, such as climate, soils, elevation, and physical features, that distinguish the proposed viticultural area from surrounding areas;

• A description of the specific boundary of the proposed viticultural area, based on features found on United States Geological Survey (USGS) maps; and

• A copy of the appropriate USGS map(s) with the proposed viticultural area's boundary prominently marked.

High Valley Petition and Rulemaking

General Background

TTB received a petition from Kevin Robinson of the Brassfield Estate Winery proposing a new viticultural area to be called “High Valley” in Lake County, California. Located above the eastern shore of Clear Lake near the village of Clearlake Oaks, about 85 miles north of San Francisco, the proposed 14,000-acre viticultural area has approximately 1,000 acres planted to vines.

The proposed High Valley viticultural area boundary encompasses the largely enclosed, elongated bowl-shaped High Valley basin and the surrounding mountain ridges. The area measures about 8.5 miles east-to-west and 3 miles north-to-south, with elevations between 1,600 and about 3,000 feet. Early viticultural efforts in the High Valley area ceased with Prohibition, and walnuts, prunes, green beans, and other crops became the area's popular agricultural commodities. Approximately 25 very old “centennial vines” (possibly zinfandel) still exist on the southeast ridge above the valley floor.

Below, we summarize the evidence presented in the petition.

Name Evidence

“High Valley” is the officially recognized name of the elongated bowl-shaped valley encompassed by the proposed High Valley viticultural area, as shown on the Clearlake Oaks, California, USGS Quadrangle map and on the California State Automobile Association's “Mendocino and Sonoma Coast Region” map of February 1999. Both maps also show High Valley Ridge and High Valley Road within the proposed viticultural area's boundary. The petition states that “High Valley” is the popularly and historically recognized name for the valley. In addition, the 2002 SBC Pacific Bell Directory lists three local businesses that incorporate “High Valley” into their name, and “High Valley Memories,” a 1960 manuscript by Tom Butler describing the valley's history, is on file at the Lake County Historical Courthouse Museum.

Boundary Evidence

High Valley is enclosed by surrounding mountain ridges, which topographically isolate High Valley from the surrounding region and form the valley's natural boundary. The proposed High Valley viticultural area boundary largely follows these surrounding ridges. The ridges surrounding High Valley create a mountainside grape-growing environment not found beyond the boundaries of the viticultural area. The majority of the High Valley area's vineyards are planted on these highland slopes, with the remainder on the western valley floor.

The floor of High Valley has a minimum elevation of 1,600 feet, which is higher than other nearby valleys and flats. Based on the relevant USGS maps, the table below shows the lower elevations found in the valleys and flats nearest to the proposed High Valley viticultural area.

Geographic region | Direction from High Valley boundary | Elevation in feet on USGS map
Clear Lake | West | 1,326
Long Valley | North | 1,200
North Fork of Cache Creek | East | 1,100
Clearlake Oaks Township | South | 1,400

Distinguishing Features

Topography

High Valley is an elongated, bowl-shaped basin, which is largely enclosed and topographically isolated from surrounding regions by high surrounding mountain ridges. As shown on USGS maps, the valley floor is generally between 1,700 and 1,800 feet in elevation, while, to the north, High Valley Ridge rises to over 3,000 feet. To the east, south, and west, the surrounding ridges average between 2,200 and 2,400 in elevation. The lowest elevation within the High Valley viticultural area is at the 1,600-foot contour line, which forms part of the area's southern boundary.

The only drainage outlet from High Valley is Schindler Creek, which flows south through a gap in the mountain ridge between the valley and Clear Lake on the viticultural area's southern side. In addition to its topographic isolation, High Valley has an east and west orientation, which is rarely found in the northern California Coastal Ranges. This orientation contributes to some of the distinctive climatic features of the High Valley area.

Climate

The proposed High Valley viticultural area's climate is cooler than the surrounding viticultural areas of Lake County, according to weather station data collected from several locations within the High Valley viticultural area, including vineyards on the area's southeastern and western mountain ridges, and on the eastern and western portions of the valley floor. The Winkler degree-day heat summation method of climate classification classifies High Valley as a Region 3 climate and occasionally as a cooler Region 2, depending upon the year and a vineyard's location within the area. (Each degree of a day's mean temperature that is above 50 degrees F, which is the minimum temperature required for grapevine growth, is counted as one degree day; see “General Viticulture,” Albert J. Winkler, University of California Press, 1975.) Amber Knolls, a grape-growing region approximately 5 miles west of High Valley's boundary line, has consistently warmer growing season temperatures, and is frequently a Region 4 climate in the degree-day classification system.

High Valley's cool growing climate results from the valley's east-west orientation, the surrounding ridge topography, and the perpetual “wind machine” generated from the Clear Lake basin. The high east-west ridges above the valley trap the cooling afternoon breezes as they blow in from the Clear Lake basin. Also, the cooling mountain-valley winds from the higher northern elevations of the Mendocino National Forest drift down the ridges to the valley floor. The High Valley area is one of the coolest grape-growing regions in Lake County, with a frost season that frequently extends into June. The grape varietals planted in the High Valley area reflect this cooler and shorter growing season.

The petition noted the wide variation in annual precipitation in High Valley between the years 2000 and May 2003, and did not provide extensive rainfall data to show it as a distinguishing viticultural factor. The High Valley area received 18 inches of precipitation in both 2000 and 2001, 29 inches in 2002, and 35 inches from January through May 2003. In recent years, other Lake County grape-growing regions received more precipitation than the High Valley viticultural area, and the petition listed the following average precipitation amounts: Red Hills, 24 to 40 inches; Kelseyville, 46 inches; and the Putah Creek basin, 47 inches.

Geology

Originally a small east-west trending fault basin with drainage to the east, volcanic activity altered High Valley's shape and created a series of high ridges along its eastern side, forming the valley's largely enclosed basin and redirecting the valley's drainage southward into Clear Lake. This volcanic activity also created Tule Lake, a small lake on the valley's central floor, as well as Round Mountain, once an active volcanic cinder cone rising 400 feet above the northern valley floor.

The dominant rock types in the proposed High Valley viticultural area are Jurassic sedimentary rocks of the Franciscan Complex, basalt flows, and Quaternary volcanic deposits. The Franciscan Complex forms the base material and most of the exposed rock in the southern ridges and western portions of High Valley, while the Quaternary volcanics overlay the basalts found throughout the valley's eastern half. Round Mountain is a prominent High Valley feature of the Quaternary volcanics.

Soils

The two primary soil types of High Valley are weathered volcanic residue and Franciscan Complex weathered sandstone, shale, or phyllitic rocks. The east side of the area contains soils derived primarily from volcanics, while the west side contains soils from Jurassic to Cretaceous sedimentary and phyllitic source material.

The four basic soil formations within the proposed High Valley viticultural area include: (1) The Franciscan Hills along the area's southern and western boundaries, (2) the alluvial basin of High Valley, (3) the alluvial terrace along the southeast boundary, and (4) the volcanic ridges along the area's northeastern boundary near Round Mountain.

Wolfcreek loam soil, a very deep well-drained clay to sandy loam with moderately slow permeability, covers most of the High Valley floor. The eastern half of the proposed High Valley viticultural area contains Konocti variants, Konocti, Hambright, Benridge, and Sodabay Series soils. The Maymen, Hopland, and Mayacama Series soils dominate the southeast region of the High Valley area. The western hills and ridges contain primarily Millsholm, Bressa, Hopland, Estel, and Maymen Series soils.

While the High Valley soils are permeable in mild and moderately-warm to warm temperatures, soils in the nearby Big Valley allow only moderately-warm to warm temperature permeation. The soils of High Valley's slopes and ridges permit excellent drainage, unlike Big Valley's less favorable soil drainage characteristics. Further, the vine-planted slopes of the High Valley area incline about 30 percent, comparatively steeper than the 0 to 2 percent incline of Big Valley vineyards.

Water Resources

The High Valley area contains aquifers and natural springs to meet its irrigation needs. The limited capability of Schindler Creek to take runoff out of High Valley contributes to the valley's unusually high water table. The springs of the valley's western and eastern mountain slopes and canyons flow down to the valley floor, which also contains springs and numerous ponds.

Overlapping Boundaries

The proposed High Valley viticultural area lies almost entirely within the established Clear Lake viticultural area (27 CFR 9.99), which surrounds the large lake of that name in Lake County, California. In turn, the Clear Lake viticultural area is entirely within the larger, multi-county North Coast viticultural area (27 CFR 9.30). To encompass the mountain ridges surrounding High Valley, a small east-northeast portion of the proposed High Valley viticultural area extends beyond the common eastern boundary of the two larger areas. The following table shows the overlapping relationships by acreage amount and percentage:

Viticultural area name | Acreage of area within High Valley area | Percentage of High Valley area in this area
North Coast | 11,651 | 81.6
Clear Lake | 11,520 | 80.7
Outside any viticultural area | 2,622 | 18.4

The North Coast and Clear Lake viticultural areas share a portion of their east boundary line, which runs diagonally northwest to southeast through the eastern portion of the proposed High Valley viticultural area. This common boundary line extends straight northwest from the northwest corner of section 1, T13N, R7W, on the Benmore Canyon map, which is outside the High Valley southeastern boundary line, to Round Mountain in section 21, T14N, R7W, on the Clearlake Oaks map. At the peak of Round Mountain, this shared boundary line divides. The North Coast viticultural area boundary line runs straight north-northwest, while the Clear Lake viticultural area extends straight northwest. TTB has determined that the difference in overlapping acreage between the two viticultural areas, above Round Mountain, is less than 1 percent when overlaid with the proposed High Valley viticultural area boundary lines.

To the east of the North Coast and Clear Lake viticultural areas' common boundary line, the High Valley viticultural area's east and northeast sections extend beyond any established viticultural area. This 2,622-acre, predominantly mountainous region includes the eastern ridges that surround High Valley, according to the USGS maps. The east side of Round Mountain and a small portion of the valley floor also lie outside the North Coast and Clear Lake viticultural areas.

This High Valley eastern area, beyond the North Coast and Clear Lake boundary line overlap, possesses distinguishing geographical features similar to the High Valley's western region. The portion of the High Valley area outside the established Clear Lake and North Coast viticultural areas contains the mountainous terrain and high ridges that make High Valley an enclosed basin with distinct watershed boundaries. The valley floor to the east of Round Mountain is the natural extension of the valley, with similar elevations and topography, as noted on the USGS maps. Soils derived primarily from basalts occur throughout the High Valley area from Schindler's Creek east to the boundary line.

Boundary Description

See the narrative boundary description of the viticultural area in the regulatory text published at the end of this notice.

Maps

The petitioner(s) provided the required maps, and we list them below in the regulatory text.

Notice of Proposed Rulemaking

TTB published a notice of proposed rulemaking regarding the establishment of the High Valley viticultural area in the Federal Register as Notice No. 28 on January 24, 2005 (70 FR 3328). In that notice, TTB requested comments by March 25, 2005, from all interested persons. TTB received no comments regarding the proposed High Valley viticultural area in response to Notice No. 28.

TTB Finding

After careful review, TTB finds that the evidence submitted with the petition supports the establishment of the proposed viticultural area. Therefore, under the authority of the Federal Alcohol Administration Act and part 4 of our regulations, we establish the “High Valley” viticultural area in Lake County, California, effective 60-days from this document's publication date.

Impact on Current Wine Labels

Part 4 of the TTB regulations prohibits any label reference on a wine that indicates or implies an origin other than the wine's true place of origin. With the establishment of this viticultural area and its inclusion in part 9 of the TTB regulations, its name, “High Valley,” is recognized as a name of viticultural significance. Consequently, wine bottlers using “High Valley” in a brand name, including a trademark, or in another label reference as to the origin of the wine, must ensure that the product is eligible to use the viticultural area's name as an appellation of origin.

For a wine to be eligible to use as an appellation of origin the name of a viticultural area specified in part 9 of the TTB regulations, at least 85 percent of the grapes used to make the wine must have been grown within the area represented by that name, and the wine must meet the other conditions listed in 27 CFR 4.25(e)(3). If the wine is not eligible to use the viticultural area name as an appellation of origin and that name appears in the brand name, then the label is not in compliance and the bottler must change the brand name and obtain approval of a new label. Similarly, if the viticultural area name appears in another reference on the label in a misleading manner, the bottler would have to obtain approval of a new label.

Different rules apply if a wine has a brand name containing a viticultural area name that was used as a brand name on a label approved before July 7, 1986. See 27 CFR 4.39(i)(2) for details.

Regulatory Flexibility Act

We certify that this regulation will not have a significant economic impact on a substantial number of small entities. This regulation imposes no new reporting, recordkeeping, or other administrative requirement. Any benefit derived from the use of a viticultural area name is the result of a proprietor's efforts and consumer acceptance of wines from that area. Therefore, no regulatory flexibility analysis is required.

Executive Order 12866

This rule is not a significant regulatory action as defined by Executive Order 12866 (58 FR 51735). Therefore, it requires no regulatory assessment.

Drafting Information

Nancy Sutton of the Regulations and Procedures Division drafted this document.

List of Subjects in 27 CFR Part 9

Wine.

The Regulatory Amendment

For the reasons discussed in the preamble, we amend 27 CFR, chapter 1, part 9 as follows:

PART 9—AMERICAN VITICULTURAL AREAS

1. The authority citation for part 9 continues to read as follows:

Authority: 27 U.S.C. 205.

Subpart C—Approved American Viticultural Areas

2. Amend subpart C by adding § 9.189 to read as follows:

§ 9. 189 High Valley.

(a) Name. The name of the viticultural area described in this section is “High Valley”. For purposes of part 4 of this chapter, “High Valley” is a term of viticultural significance.

(b) Approved Maps. The appropriate maps for determining the boundaries of the “High Valley” viticultural area are three United States Geological Survey (USGS) 1:24,000 scale topographic maps. They are titled:

(1) Clearlake Oaks Quadrangle, California—Lake County; edition of 1958; photorevised 1975, minor revision 1994;

(2) Benmore Canyon Quadrangle, California—Lake County; provisional edition of 1989, minor revision 1994; and

(3) Lucerne Quadrangle, California—Lake County; edition of 1958, photorevised 1975, minor revision 1994.

(c) Boundary. The High Valley viticultural area is located in Lake County, California, near the village of Clearlake Oaks. The boundary of the High Valley viticultural area is as described below:

(1) The point of beginning is on the Clearlake Oaks map on the northern boundary line of section 16 (also the southern boundary of the Mendocino National Forest), T14N, R8W, at the intersection of the section line and High Valley Road;

(2) From the beginning point, proceed due east 2.4 miles along the northern boundary lines of sections 16, 15, and 14 (also the southern boundary of the Mendocino National Forest) to the northeast corner of section 14, T14N, R8W; then

(3) Proceed straight east-southeast 3.15 miles to the intersection of the 2,000-foot elevation line and the eastern boundary of section 17, T14N, R7W; then

(4) Proceed easterly 2.7 miles along the meandering 2,000-foot elevation line to its first intersection with the eastern boundary of section 22, T14N, R7W, on the Benmore Canyon map; then

(5) Proceed due south approximately 300 feet along the eastern boundary of section 22, T14N, R7W, to its intersection with the headwaters of the north branch of the Salt Canyon Creek; then

(6) Proceed easterly 0.4 mile along the north branch of the Salt Canyon Creek to its intersection with the 1,600-foot elevation line in section 23, T14N, R7W; then

(7) Proceed southerly along the meandering 1,600-foot elevation line 4.1 miles to its intersection with State Route 20, just north of Sweet Hollow Creek, in section 35, T14N, R7W; then

(8) Proceed southwest and then west 1.7 miles on State Route 20 to its intersection with the 1,600-foot elevation line just northwest of BM 1634, Wye, in section 3, T13N, R7W; then

(9) Proceed westerly 15.2 miles along the meandering 1,600-foot elevation line, crossing the Clearlake Oaks map, to the elevation line's intersection with an unnamed intermittent stream in Pierce Canyon in the northeast quadrant of section 20, approximately 0.4 mile east of VABM 2533, T14N, R8W, on the Lucerne map; then

(10) Proceed northerly and then northeasterly along the unnamed intermittent stream in Pierce Canyon and then the stream's northern fork approximately 1.6 miles to the northern fork's intersection with the 3,000-foot elevation line in section 16, T14N, R8W, on the Clearlake Oaks map; and then

(11) Proceed straight northeast 0.15 mile, returning to the beginning point.

Signed: May 17, 2005.
John J. Manfreda,
Administrator.
Approved: May 27, 2005.
Timothy E. Skud,
Deputy Assistant Secretary (Tax, Trade, and Tariff Policy).

[FR Doc. 05-13042 Filed 6-30-05; 8:45 am]

BILLING CODE 4810-31-P